DEPARTMENT OF DEFENSE

Office of the Secretary

[Docket ID: DoD-2023-OS-0038]

Proposed Collection; Comment Request

AGENCY: Office of the Under Secretary of Defense for Personnel and Readiness (OUSD(P&R)), Department of Defense (DoD).

ACTION: 60-Day information collection notice.

SUMMARY: In compliance with the Paperwork Reduction Act of 1995, the OUSD(P&R) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by July 5, 2023.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the Office of the Deputy Assistant Secretary for Defense for Military Personnel Policy, Office of Military Compensation Policy, ATTN: Mr. Ronald Garner, Pentagon, Washington, DC 20301-1500, or call (703) 693-1059.

SUPPLEMENTARY INFORMATION:

Title; Associated Form; and OMB Number: Data for Payment of Retired Personnel; DD Form 2656; OMB Control Number 0704-0569.

Needs and Uses: The information collection requirement is necessary to obtain applicable retirement information from Uniformed Service members and allow those members to make certain retired pay and survivor annuity elections prior to retirement from service or prior to reaching eligibility to receive retired pay. The form will also allow eligible members covered by the Blended Retirement System to make a voluntary election of a partial lump sum of retired pay, as required by section 1415 of title 10, United States Code.

Affected Public: Individuals or households.

Annual Burden Hours: 31,988.

Number of Respondents: 127,950.

Responses per Respondent: 1.

Annual Responses: 127,950.

Average Burden per Response: 15 minutes.

Frequency: As required.

Every member of the Uniformed Services who retires or reaches the age of eligibility to begin receiving retired pay, in the case of members of the Reserves and National Guard, will voluntarily complete this form to request retired pay, designate beneficiaries, and make a Survivor Benefit Plan election. In an average calendar year, approximately 127,950 members of the Uniformed Service will complete this form. The spouses of retiring members of the Uniformed Services are only required to complete part V of this form if the Service member declines or reduces his or her level of under the Survivor Benefit Plan.

Dated: April 27, 2023.
Aaron T. Siegel,
Alternate OSD Federal Register Liaison Officer, Department of Defense.

[FR Doc. 2023-09627 Filed 5-4-23; 8:45 am]

BILLING CODE 5001-06-P